DEPARTMENT OF TRANSPORTATION

Surface Transportation Board

[STB Ex Parte No. 680]

Study of Competition in the Freight Railroad Industry

AGENCY: Surface Transportation Board.

ACTION: Notice of board meeting.

SUMMARY: The Board will meet with Christensen Associates at 10 a.m. on Thursday, November 6, 2008, in the Hearing Room on the first floor of the Board's headquarters in Washington, DC. The purpose of the meeting will be to discuss Christensen Associates' independent study entitled Report to the U.S. STB on Competition and Related Issues in the U.S. Freight Railroad Industry. The report assesses the current state of competition in the United States freight railroad industry. The meeting will be open for public observation but not public participation.

DATES: The meeting will take place on Thursday, November 6, 2008, beginning at 10 a.m.

ADDRESSES: The meeting will be held in the Hearing Room on the first floor of the Board's headquarters at Patriot's Plaza, 395 E Street, SW., Washington, DC 20423-0001.

FOR FURTHER INFORMATION CONTACT: A. Dennis Watson, Office of Public Assistance, Governmental Affairs, and Compliance, Telephone: (202) 245-0234, FIRS: (800) 877-8339.

SUPPLEMENTARY INFORMATION: In September 2007, the Board awarded a contract to Christensen Associates to conduct an independent study that provides a comprehensive analysis of a wide range of issues including competition, capacity, and the interplay between the two. The report also includes an examination of various regulatory policy alternatives that could lead to changes in the Board's regulatory approach if necessary.

The Board will release the report to the public in early November and will solicit written public comments at that time.

This action will not significantly affect either the quality of the human environment or the conservation of energy resources.

Dated: October 23, 2008.
By the Board, Anne K. Quinlan, Acting Secretary.
Anne K. Quinlan,
Acting Secretary.

[FR Doc. E8-25696 Filed 10-27-08; 8:45 am]

BILLING CODE 4915-01-P